DEPARTMENT OF ENERGY

Federal Energy Regulatory Commission

[Docket No. CP00-468-000]

El Paso Natural Gas Company; Notice of Application

September 26, 2000.

Take notice that on September 21, 2000, El Paso Natural Gas Company (El Paso), whose mailing address is Post Office Box 1492, El Paso, Texas 79978, filed an application at Docket No. CP00-468-000, pursuant to Section 7(b) of the Natural Gas Act (NGA), for permission and approval to abandon by removal or in place, existing pipeline facilities and for a certificate of public convenience and necessity to relocate pipeline facilities, all in Maricopa County, Arizona, all as more fully set forth in the application which is on file with the Commission and open to public inspection. This filing may be viewed on the web at http://www.ferc.us/online/rims.htm (call 202-208-2222).

El Paso states that its existing 10¾-inch Tucson-Phoenix Line (Line 1007) and Tucson-Phoenix Loop Line (Line 1008) traverse land that is currently under development by Tait Development, Inc. (Tait). It is indicated that Tait has advised El Paso that this development will involve, among other things, the construction of multi-story office buildings, roads, and parking lot facilities, all of which will encroach upon El Paso's easement and/or pipeline. It is then stated that, in recognition of the concerns present with an active natural gas pipeline in operation in the immediate construction area, the developer has requested El Paso to relocate the segment of pipe away from the construction area, and will grant El Paso a new easement adjacent to a road being constructed around the subdivision. El Paso states it has agreed to the developer's proposal, and proposes authorization to relocate its pipeline.

El Paso states that, normally, this project could easily be accomplished under its Part 157 blanket certificate as a miscellaneous rearrangement under Section 157.208 of the Commission's Regulations. However, it is stated that Line 1007 was recently determined by the Arizona State Historical Preservation Office (SHPO) to be eligible for historic designation under Section 106 of the National Historic Preservation Act, and consequently, El Paso cannot obtain the necessary “no-effect” determination required from the SHPO to permit this activity to be performed under the Commission's Part 157, Subpart F regulations.

El Paso now seeks case specific authorization for the project because the historical designation given Line No. 1007 also requires that, as part of the Commission's processing of the application, that a Programmatic Agreement (PA) be developed. El Paso indicates that the PA is the environmental document designed to specifically address the protocol for any project disturbing this facility, together with agreed upon documentation, photographs, and studies to record the historical aspects of the facility. El Paso also indicates that, based on the circumstances surrounding the project, it seeks expedited processing of the application, with the use of a memorandum of agreement (MOA) rather than a PA and for the issuance of an order approving the project prior to October 15, 2000. El Paso estimates total project costs of $175,122, to be reimbursed 50 percent by the developer.

Any questions regarding this application should be directed to Mr. A.W. Clark at (915) 496-2600.

Any person desiring to be heard or to make protest with reference to said application should on or before October 6, 2000, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for El Paso to appear or be represented at the hearing.

David P. Boergers,
Secretary.

[FR Doc. 00-25112 Filed 9-29-00; 8:45 am]

BILLING CODE 6717-01-M